DEPARTMENT OF AGRICULTURE

Submission for OMB Review; Comment Request

August 30, 2012.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

National Institute of Food and Agriculture

Title: Application for Authorization to Use the 4-H Name and/or Emblem.

OMB Control Number: 0524-0034.

Summary of Collection: Use of the 4-H Club Name and/or Emblem is authorized by an Act of Congress, (Pub. L. 772, 80th Congress, 645, 2nd Session). Use of the 4-H Club Name and/or Emblem by anyone other than the 4-H Clubs and those duly authorized by them, representatives of the Department of Agriculture, the Land-Grant colleges and universities, and person authorized by the Secretary of Agriculture is prohibited by the provisions of 18 U.S.C. 707. The Secretary has delegated authority to the Administrator of the National Institute of Food and Agriculture (NIFA) to authorize others to use the 4-H Name and Emblem. Therefore, anyone requesting authorization from the Administrator to use the 4-H Name and Emblem is asked to describe the proposed use in a formal application. NIFA will collect information using form NIFA-01 “Application for Authorization to Use the 4-H Club Name or Emblem.”

Need and Use of the Information: The information collected by NIFA will be used to determine if those applying to use the 4-H name and emblem are meeting the requirements and quality of materials, products and/or services provided to the public. If the information were not collected, it would not be possible to ensure that the products, services, and materials meet the high standards of 4-H, its educational goals and objectives.

Description of Respondents: Not-for-profit institutions; Business or other for-profit; Individuals or households; State, Local or Tribal Government.

Number of Respondents: 60.

Frequency of Responses: Reporting: Other (every 3 years).

Total Burden Hours: 30.

National Institute of Food and Agriculture

Title: Children, Youth, and Families at Risk (CYFAR) Year End Report.

OMB Control Number: 0524-0043.

Summary of Collection: Funding for the Children, Youth, and Families at Risk (CYFAR) is authorized under section 3(d) of the Smith-Lever Act (7 U.S.C. 341 et seq.), as amended and other relevant authorizing legislation, which provides jurisdictional basis for the establishment and operation of extension educational work for the benefit of youth and families in communities. The CYFAR funding program supports community-based programs serving children, youth, and families in at risk environments. CYFAR funds are intended to support the development of high quality, effective programs based on research and to document the impact of these programs on intended audiences which are children, youth, and families in at-risk environments.

Need and Use of the Information: The purpose of the CYFAR Year End Report is to collect the demographic and impact data from each community site in order to evaluate the impact of the programs on intended audiences. The CYFAR data is also used to respond to requests for impact information from Congress, the White House, and other Federal agencies. Data from the CYFAR annual reports is used to refine and improve program focus and effectiveness. Without the information NIFA would not be able to verify if CYFAR programs are reaching at risk, low-income audiences.

Description of Respondents: State, Local or Tribal Government.

Number of Respondents: 51.

Frequency of Responses: Reporting: Annually.

Total Burden Hours: 16,422.

Ruth Brown,
Departmental Information Collection Clearance Officer.

[FR Doc. 2012-21952 Filed 9-5-12; 8:45 am]

BILLING CODE 3410-09-P